DEPARTMENT OF THE TREASURY

Internal Revenue Service

Open Meeting of Citizen Advocacy Panel, Pacific-Northwest District

AGENCY: Internal Revenue Service (IRS), Treasury.

ACTION: Notice.

SUMMARY: An open meeting of the Pacific-Northwest Citizen Advocacy Panel will be held in Portland, Oregon.

DATES: The meeting will be held Friday March 24, 2000 and Saturday March 25, 2000

FOR FURTHER INFORMATION CONTACT: Lori M. Dupuis at 1-888-912-1227 or 206-220-6096.

SUPPLEMENTARY INFORMATION: Notice is hereby given pursuant to section 10(a)(2) of the Federal Advisory Committee Act, 5 U.S.C. App. (1988) that an open meeting of the Citizen Advocacy Panel will be held Friday March 24, 2000, 9:00 a.m. to 4:30 p.m. at the Internal Revenue Service Portland Headquarters Building located at 1220 SW Third Avenue, Room 611, Portland, OR 97204 and Saturday March 25, 2000, 9:00 a.m. to Noon at the Portland Conference Center, Boardroom, 300 NE Multnomah Street, Portland, OR 97232. The public is invited to make oral comments. Individual comments will be limited to 10 minutes. If you would like to have the CAP consider a written statement, please call 1-888-912-1227 or 206-220-6096, or write Lori M. Dupuis, CAP Office, 915 2nd Avenue, Room 442, Seattle, WA 98174. Due to limited conference space, notification of intent to attend the meeting must be made with Lori M. Dupuis. Ms. Dupuis can be reached at 1-888-912-1227 or 206-220-6096.

The Agenda will include the following: various IRS issue updates and reports by the CAP sub-groups.

Note: Last minute changes to the agenda are possible and could prevent effective advance notice.

Dated: February 24, 2000.
John J. Mannion,
Program Manager, TAS.

[FR Doc. 00-5250 Filed 3-2-00; 8:45 am]

BILLING CODE 4830-01-U